DEPARTMENT OF VETERANS AFFAIRS

[OMB Control No. 2900-0138]

Agency Information Collection Activity Under OMB Review: Request for Details of Expenses

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by March 12, 2026.

ADDRESSES: To submit comments and recommendations for the proposed information collection, please type the following link into your browser: www.reginfo.gov/public/do/PRAMain, select “Currently under Review—Open for Public Comments”, then search the list for the information collection by Title or “OMB Control No. 2900-0138.”

FOR FURTHER INFORMATION CONTACT:

VA PRA information: Dorothy Glasgow, 202-461-1084, VAPRA@va.gov.

SUPPLEMENTARY INFORMATION:

Title: Request for Details of Expenses.

OMB Control Number: 2900-0138 https://www.reginfo.gov/public/do/PRASearch.

Type of Review: Extension of a currently approved collection.

Abstract: The primary use of the form is to gather the necessary information to determine eligibility for VA Pension. Without VA Form 21P-8049, VA will not be able to properly evaluate the totality of a claimant's circumstances when considering an application for benefits. VA will also be unable to assess the totality of the claimant's circumstances when VA receives evidence of a significant increase in the corpus of the claimant's estate. The collection is conducted on a one-time basis and cannot be performed less frequently.

An agency may not conduct or sponsor, and a person is not required to respond to a collection of information unless it displays a currently valid OMB control number. The Federal Register Notice with a 60-day comment period soliciting comments on this collection of information was published at 90 FR 55243, December 1, 2025.

Affected Public: Individuals or Households.

Estimated Annual Burden: 218 hours.

Estimated Average Burden per Respondent: 15 minutes.

Frequency of Response: One time.

Estimated Number of Respondents: 871 per year.

Authority: 44 U.S.C. 3501 et seq.

Shunda Willis,
Acting, VA PRA Clearance Officer, (Alt.) Office of Information Technology, Data Governance Analytics, Department of Veterans Affairs.

[FR Doc. 2026-02556 Filed 2-9-26; 8:45 am]

BILLING CODE 8320-01-P